ENVIRONMENTAL PROTECTION AGENCY

[ER-FRL-8799-4]

Environmental Impacts Statements; Notice of Availability

Responsible Agency: Office of Federal Activities, General Information (202) 564-1399 or http://www.epa.gov/compliance/nepa/.

Weekly receipt of Environmental Impact Statements.

Filed 11/09/2009 through 11/13/2009.

Pursuant to 40 CFR 1506.9.

EIS No. 20090391, Final EIS, AFS, CA, Salt Timber Harvest and Fuel Hazard Reduction Project, Proposing Vegetation Management in the Salt Creek Watershed, South Fork Management Unit, Hayfork Ranger District, Shasta-Trinity National Forest, Trinity County, CA, Wait Period Ends: 12/21/2009, Contact: Sand Mack 406-375-2638.

EIS No. 20090392, Draft Supplement, FHW, HI, Saddle Road (HI-200) Improvements Project. Proposed Improvement from Mamalahoa Highway (HI-190) to Milepost 41, Hawaii County, HI, Comment Period Ends: 01/07/2010, Contact: Melissa Dickard 720-963-3691.

EIS No. 20090393, Final EIS, DOE, MN, Mesaba Energy Project, Proposes to Design, Construct and Operate a Coal-Based Integrated Gasification Cycle (IGCC) Electric Power Generating Facility, Located in the Taconite Tax Relief Area (TTRA), Itasca and St. Louis Counties, MN, Wait Period Ends: 12/21/2009, Contact: Richard A. Hargis, Jr 412-386-6065.

EIS No. 20090394, Draft EIS, USN, GU, Guam and Commonwealth of the Northern Mariana Islands (CNMI) Military Relocation, Proposed Relocating Marines from Okinawa, Visiting Aircraft Carrier Berthing, and Army Air and Missile Defense Task Force, Implementation, GU, Comment Period Ends: 01/04/2010, Contact: Kyle Fujimoto 808-472-1442.

EIS No. 20090395, Draft EIS, FTA, CO, North Metro Corridor Project, Proposed a Commuter Rail Transit from downtown Denver, Colorado, north to State Highway (SH) 7, in the Cities of Denver, Commerce City, Thornton, Northglenn, and Adams County, CO, Comment Period Ends: 01/15/2010, Contact: David Beckhouse 720-963-3306.

EIS No. 20090396, Draft Supplement, CGD, AL, Bienville Offshore Energy Terminal (BOET) Deepwater Port License Application Amendment (Docket # USCG-2006-24644), Proposes to Construct and Operate a Liquefied Natural Gas Receiving and Regasification Facility, Outer Continental Shelf of the Gulf of Mexico, South of Fort Morgan, AL, Comment Period Ends: 01/04/2010, Contact: Lt. Hannah Kawamoto 202-372-1438.

EIS No. 20090397, Draft EIS, USA, 00, Programmatic—Louisiana Coastal Area (LCA) Beneficial Use of Dredged Material (BUDMAT) Program Study, To Establish the Structure and Management Architecture of the BUDMAT Program, Implementation, MS, TX and LA, Comment Period Ends: 01/04/2010, Contact: Elizabeth McCasland 504-862-2021.

Amended Notices.

EIS No. 20090324, Draft EIS, AFS, 00, Nebraska National Forests and Grassland Travel Management Project, Proposes to Designate Routes and Areas Open to Motorized Travel, Buffalo Gap National Grassland, Oglala National Grassland, Samuel R. McKelvie National Forest, and the Pine Ridge and Bessey Units of the Nebraska National Forest, Fall River, Custer, Pennington, Jackson Counties; SD and Sioux, Dawes, Cherry, Thomas and Blaine Counties, NE., Comment Period Ends: 12/24/2009, Contact: Mark Reichert 530-841-4422.

Revision to FR Published 09/25/2009: Extending Comment Period from 11/09/2009 to 12/24/2009.

EIS No. 20090366, Final EIS, FHW, CO, US-36 Corridor, Multi-Modal Transportation Improvements between I-25 in Adams County and Foothills Parkway/Table Mesa Drive in Boulder, Adams, Denver, Broomfield, Boulder and Jefferson Counties, CO, Wait Period Ends: 12/14/2009, Contact: Monica Pavlik 720-963-3012.

Revision to FR Notice Published 10/30/2009: Extending Comment Period from 11/30/2009 to 12/14/2009.

Dated: November 17, 2009.
Robert W. Hargrove,
Director, NEPA Compliance Division, Office of Federal Activities.

[FR Doc. E9-27968 Filed 11-19-09; 8:45 am]

BILLING CODE 6560-50-P